DEPARTMENT OF LABOR

Employment and Training Administration

[TA-W-70,989; TA-W-70,989A; TA-W-70,989B]

Amended Certification Regarding Eligibility To Apply for Worker Adjustment Assistance

TA-W-70,989,

KLAUSSNER FURNITURE INDUSTRIES, INC., PLANT #3, ASHEBORO, NORTH CAROLINA;

TA-W-70,989A,

KLAUSSNER FURNITURE INDUSTRIES, INC., PLANT #33, ASHEBORO, NORTH CAROLINA;

TA-W-70,989B,

KLAUSSNER CORPORATE SERVICES, INC., ALSO KNOWN AS KLAUSSNER OF IOWA, A DIVISION OF KLAUSSNER FURNITURE INDUSTRIES, INC., MILFORD, IOWA.

In accordance with Section 223 of the Trade Act of 1974, as amended (“Act”), 19 U.S.C. 2273, the Department of Labor issued a Certification of Eligibility To Apply for Worker Adjustment Assistance on August 26, 2009, applicable to workers of Klaussner Furniture Industries, Inc., Plant #3, Asheboro, North Carolina and Klaussner Furniture Industries, Inc., Plant #33, Asheboro, North Carolina. The workers cut fabric for upholstered household goods. The notice was published in the Federal Register on November 5, 2009 (74 FR 57340).

At the request of a company official, the Department reviewed the certification for workers of the subject firm.

New information shows that the Asheboro, North Carolina locations of Klaussner Furniture Industries, Inc., supplied fabric and the cut wood parts for the Milford, Iowa location to assemble frames and upholstered the furniture for the subject firm. The Milford, Iowa location supports and operates in conjunction with the Asheboro, North Carolina locations, all have experienced worker separations during the relevant time period, a decline in customer sales and production and were impacted by an increase in imports of upholstered household goods.

Accordingly, the Department is amending the certification to include workers of the Milford, Iowa location of Klaussner Furniture Industries, Inc.

The amended notice applicable to TA-W-70,989 is hereby issued as follows:

All workers of Klaussner Furniture Industries, Plant #3, Asheboro, North Carolina who became totally or partially separated from employment on or after February 14, 2009 through August 26, 2011, and all workers in the group threatened with total or partial separation from employment on the date of certification through two years from the date of certification, are eligible to apply for adjustment assistance under Chapter 2 of Title II of the Trade Act of 1974, as amended.

All workers of Klaussner Furniture Industries, Plant #33, Asheboro, North Carolina, and Klaussner Corporate Services, Inc., also known as Klaussner of Iowa, a division of Furniture Industries, Inc., Milford, Iowa (TA-W-70,989B) who became totally or partially separated from employment on or after June 2, 2008 through August 26 2011, and all workers in the group threatened with total or partial separation from employment on the date of certification through two years from the date of certification, are eligible to apply for adjustment assistance under Chapter 2 of Title II of the Trade Act of 1974, as amended.

Signed in Washington, DC, this 26th day of August, 2011.
Del Min Amy Chen,
Certifying Officer, Office of Trade Adjustment Assistance.

[FR Doc. 2011-23935 Filed 9-16-11; 8:45 am]

BILLING CODE 4510-FN-P